DEPARTMENT OF LABOR

Employment and Training Administration

[TA-W-39,450]

Northwestern Steel and Wire Company Sterling, IL; Notice of Affirmative Determination Regarding Application for Reconsideration

By letter of September 24, 2001, the company requested administrative reconsideration of the Department's negative determination regarding eligibility to apply for Trade Adjustment Assistance (TAA), applicable to workers and former workers of the subject firm. The denial notice was signed on September 5, 2001, and was published in the Federal Register on September 21, 2001 (66 FR 48706).

Information provided by the company reveals that further investigation is warranted regarding imports of articles like or directly competitive with those produced by workers at Northwestern Steel and Wire Company, Sterling, Illinois.

Conclusion

After careful review of the application, I conclude that the claim is of sufficient weight to justify reconsideration of the Department of Labor's prior decision. The application is, therefore, granted.

Signed at Washington, DC, this 26th day of October, 2001.
Edward A. Tomchick,
Director, Division of Trade Adjustment Assistance.

[FR Doc. 01-28167 Filed 11-8-01; 8:45 am]

BILLING CODE 4510-30-M